DEPARTMENT OF HEALTH AND HUMAN SERVICES

National Institutes of Health

National Cancer Institute; Notice of Meeting

Pursuant to section 10(a) of the Federal Advisory Committee Act, as amended (5 U.S.C. App.), notice is hereby given of a meeting of the National Cancer Advisory Board Ad Hoc Subcommittee on Global Cancer Research.

The teleconference meeting will be open to the public.

Name of Committee: National Cancer Advisory Board; Ad Hoc Subcommittee on Global Cancer Research.

Date: March 23, 2016.

Time: 2:00 p.m. to 3:00 p.m.

Agenda: Preview global cancer research outline for presentation at the June 2016 Joint BSA and NCAB Meeting.

Place: National Cancer Institute, Shady Grove Shady Grove, 9609 Medical Center Drive, Rockville, MD 20850, (Telephone Conference Call)—Dial in number: 1-866-692-3158 and Passcode: 9875262.

Contact Person: Edward T. Trimble, M.D., M.P.H., Executive Secretary, NCAB Ad Hoc Subcommittee on Global Cancer Research, Director, Center for Global Health, National Cancer Institute—Shady Grove, National Institutes of Health, 9609 Medical Center Drive, Room 3W562, Bethesda, MD 20892, 240-276-5796, trimblet@mail.nih.gov.

Any interested person may file written comments with the committee by forwarding the statement to the Contact Person listed on this notice. The statement should include the name, address, telephone number and when applicable, the business or professional affiliation of the interested person.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: February 29, 2016.
Melanie J. Gray,
Program Analyst, Office of Federal Advisory Committee Policy.

[FR Doc. 2016-04671 Filed 3-2-16; 8:45 am]

BILLING CODE 4140-01-P